CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments on the attitudes and behaviors of volunteers to determine the factors which influence volunteering and volunteer retention. The collection will include information on the frequency and intensity of volunteering, the types of organizations where individuals volunteer, the volunteer activities that are performed, the ways in which individuals access volunteer opportunities, and the perceived barriers to volunteering.

DATES: Written comments must be submitted to the office listed in the ADDRESSES section December 17, 2007.

ADDRESSES: You may submit comments, identified by the title of the information collection activity, by any of the following methods:

(1) By mail sent to: Corporation for National and Community Service, Office of Research and Policy Development, Attn. Carla Manuel, Policy Analyst, Room 10901A, 1201 New York Avenue, NW., Washington, DC 20525.

(2) By hand delivery or by courier to the Corporation's mailroom at Room 8100 at the mail address given in paragraph (1) above, between 9 a.m. and 4 p.m. Monday through Friday, except Federal holidays.

(3) By fax to: (202) 565-2785, Attention Carla Manuel, Policy Analyst.

(4) Electronically through the Corporation's e-mail address system: cmanuel@cns.gov.

FOR FURTHER INFORMATION CONTACT: Carla Manuel, (202) 606-6720 or by e-mail at cmanuel@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology (e.g., permitting electronic submissions of responses).

Background

The Corporation is interested in learning about the behaviors, attitudes, and factors which influence volunteering and volunteer retention. This study will include focus groups to determine the themes and trends that impact volunteering and volunteer retention. The focus groups will include questions on the value of service, factors affecting decisions to volunteer and select volunteer activities, and attitudes about volunteering.

Current Action

The Corporation seeks to collect new information on the motivation and activities of current volunteers to help determine effective strategies for volunteer retention.

Type of Review: New.

Agency: Corporation for National and Community Service.

Title: Volunteering in America Focus Groups.

OMB Number: New.

Agency Number: None.

Affected Public: Individuals.

Total Respondents: 200.

Frequency: One time.

Average Time Per Response: Averages 60 minutes.

Estimated Total Burden Hours: 200 hours.

Total Burden Cost (capital/startup): None.

Total Burden Cost (operating/maintenance): None.

Comments submitted in response to this notice will be summarized and/or included in the request for Office of Management and Budget approval of the information collection request; they will also become a matter of public record.

Dated: October 11, 2007.
Robert Grimm,
Director, Office of Research and Policy Development.

[FR Doc. E7-20418 Filed 10-16-07; 8:45 am]

BILLING CODE 6050-$$-P